COMMISSION ON CIVIL RIGHTS

Notice of Public Meeting of the Indiana Advisory Committee to the U.S. Commission on Civil Rights

AGENCY: U.S. Commission on Civil Rights.

ACTION: Announcement of meeting.

SUMMARY: Notice is hereby given, pursuant to the provisions of the rules and regulations of the U.S. Commission on Civil Rights (Commission) and the Federal Advisory Committee Act that the Indiana Advisory Committee (Committee) to the U.S. Commission on Civil Rights will hold planning meetings via Zoom on Tuesday, November 1, 2022, and December 6, 2022 at 1 p.m. (ET) to discuss and select the topic for the Committee's civil rights project; votes may be taken.

DATES: The meeting will take place on Tuesday, November 1, 2022, and December 6, 2022, from 1 p.m.-2 p.m. (ET).

ADDRESSES:

Meeting Link (Audio/Visual): https://www.zoomgov.com/j/1601951921.

Telephone (Audio Only): Dial 833-435-1820 USA Toll Free; Meeting ID: 160 195 1921

FOR FURTHER INFORMATION CONTACT: Ivy Davis, DFO, at idavis@usccr.gov or 202- 376-7533, or email Sarah Villanueva, Support Specialist, at svillanueva@usccr.gov.

SUPPLEMENTARY INFORMATION: Members of the public can listen to these discussions. Committee meetings are available to the public through the above call-in number. Any interested member of the public may call this number and listen to the meeting. An open comment period will be provided to allow members of the public to make a statement as time allows. Callers can expect to incur regular charges for calls they initiate over wireless lines, according to their wireless plan. The Commission will not refund any incurred charges. Callers will incur no charge for calls they initiate over land-line connections to the toll-free telephone number. Individuals who are deaf, deafblind and hard of hearing may follow the proceedings by first calling the Federal Relay Service at 800-877-8339 and providing the Service with the conference call number and conference ID number.

Members of the public are also entitled to submit written comments; the comments must be received in the regional office within 30 days following the meeting. Written comments may be emailed to Sarah Villanueva at svillanueva@usccr.gov. Persons who desire additional information may contact Ivy Davis at 202-539-8468.

Records generated from this meeting may be inspected and reproduced at the Regional Programs Unit Office, as they become available, both before and after the meeting. Records of the meeting will be available via www.facadatabase.gov under the Commission on Civil Rights, Indiana Advisory Committee link. Persons interested in the work of this Committee are directed to the Commission's website, http://www.usccr.gov, or may contact the Regional Programs Unit at the above email or street address.

Agenda

I. Roll Call

II. Welcome

III. Project Planning

IV. Other Business

V. Next Meeting

VI. Public Comments

VII. Adjourn

Dated: October 11, 2022.
David Mussatt,
Supervisory Chief, Regional Programs Unit.

[FR Doc. 2022-22384 Filed 10-13-22; 8:45 am]

BILLING CODE P